DEPARTMENT OF COMMERCE

National Oceanic and Atmospheric Administration

Federal Consistency Appeal by the Northeast Massachusetts Mosquito Control and Wetlands Management District

AGENCY: National Oceanic and Atmospheric Administration (NOAA), U.S. Department of Commerce.

ACTION: Notice of appeal.

SUMMARY: This announcement provides notice that the Northeast Massachusetts Mosquito Control and Wetlands Management District (the District) has filed an administrative appeal with the U.S. Department of Commerce (the Department), asking that the Department override an objection by the Massachusetts Office of Coastal Zone Management (Massachusetts). Massachusetts objects to the District's proposed Open Marsh Water Management (OMWM) program.

ADDRESSES: Materials from the appeal record will be available at the NOAA Office of General Counsel for Ocean Services, 1305 East-West Highway, SSMC4, Room 6111, Silver Spring, Maryland 20910, and on the following Web site: http://www.ogc.doc.gov/czma.htm.

FOR FURTHER INFORMATION CONTACT: Jamon Bollock, Attorney-Advisor, NOAA Office of General Counsel for Ocean Services, at (301) 713-7393 or gcos.inquiries@noaa.gov.

SUPPLEMENTARY INFORMATION:

I. Notice of Appeal

On September 17, 2008, the District filed a notice of appeal with the Department, pursuant to the Coastal Zone Management Act of 1972 (CZMA), 16 U.S.C. 1451 et seq., and implementing regulations found at 15 CFR Part 930, Subpart H. The District appealed an objection by Massachusetts to the District's proposed OMWM program, which is a mosquito abatement practice that involves increasing access of predacious fish to mosquito breeding habitat by converting vegetated salt marsh areas into larger, deeper pools of standing water connected through a network of ditches.

Under the CZMA, the Department may override Massachusetts's objection on grounds that the project is consistent with the objectives or purposes of the CZMA or otherwise necessary in the interest of national security. To make the determination that the proposed activity is “consistent with the objectives or purposes of the CZMA,” the Department must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121.

II. Opportunity for Federal Agency and Public Comment and Public Hearing

Pursuant to NOAA regulations, 15 CFR 930.128, the public and interested Federal Agencies may submit any comment on this appeal from January 12 to February 11, 2009. All comments should be directed in writing to the NOAA Office of General Counsel for Ocean Services, 1305 East-West Highway, SSMC4, Room 6111, Silver Spring, Maryland 20910, or via e-mail to gcos.inquiries@noaa.gov.

Federal regulations also allow for a public hearing of this appeal, on the initiative of the Secretary of Commerce or upon written request. A request for public hearing must be filed with the Department within 30 days of the date of publication of this notice in the Federal Register. Such requests should be directed, in writing, to the following address: Jamon Bollock, Attorney-Advisor, NOAA Office of General Counsel, 1305 East-West Highway, SSMC4, Room 6111, Silver Spring, Maryland 20910.

III. Availability of Appeal Documents

NOAA intends to provide the public with access to all publicly available materials and related documents comprising the appeal record during business hours at the NOAA Office of General Counsel for Ocean Services and on the following Web site: http://www.ogc.doc.gov/czma.htm.

For additional information about this appeal, please contact Jamon Bollock, Attorney-Advisor, NOAA Office of General Counsel, at (301) 713-7393 or gcos.inquiries@noaa.gov.

Dated: October 14, 2008.
Joel La Bissonniere,
Assistant General Counsel for Ocean Services, NOAA.

[FR Doc. E8-24788 Filed 10-16-08; 8:45 am]

BILLING CODE 3510-08-P